DEPARTMENT OF TRANSPORTATION

Federal Aviation Administration

14 CFR Part 121

[Docket No.: FAA-2014-0504; Amdt. No.: 121-282B]

RIN 2120-AJ87

Pilot Professional Development; Technical Amendments

AGENCY: Federal Aviation Administration (FAA), Department of Transportation (DOT).

ACTION: Final rule; technical amendments.

SUMMARY: The Federal Aviation Administration (FAA) is making technical amendments to the Pilot Professional Development (PPD) final rule, which was published on February 25, 2020. That document inadvertently failed to update two cross-references. This document corrects the final regulations.

DATES: Effective June 30, 2020.

FOR FURTHER INFORMATION CONTACT: Sheri Pippin, Air Transportation Division (AFS-200), Flight Standards Service, Federal Aviation Administration, 800 Independence Avenue SW, Washington, DC 20591; telephone: (202) 267-8166; email: sheri.pippin@faa.gov.

SUPPLEMENTARY INFORMATION:

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Section 553(d)(3) of the APA requires that agencies publish a rule not less than 30 days before its effective date, except as otherwise provided by the agency for good cause found and published with the rule.

Because this action merely makes technical amendments to a published final rule, the FAA finds that notice and public comment under 5 U.S.C. 553(b) is unnecessary. For the same reason, the FAA finds that good cause exists under 5 U.S.C. 553(d) for making this rule effective in less than 30 days.

Background

On February 25, 2020, the FAA published the PPD final rule (85 FR 10896). After that rule was published, the FAA discovered two minor errors in § 121.409 and § 121.424 of Title 14 of the Code of Federal Regulations that require correction. Section 121.409(c)(1) erroneously references § 121.424(d). This final rule redesignated § 121.424(d) as § 121.424(e). Additionally, the newly finalized § 121.424(f) erroneously references § 121.424(b)(2), which was redesignated in the PPD final rule as § 121.424(c)(2).

List of Subjects in 14 CFR Part 121

Air carriers, airmen, aviation safety, charter flights, reporting and recordkeeping requirements, safety, transportation.

Accordingly, FAA corrects 14 CFR part 121 by making the following technical corrections:

PART 121—OPERATING REQUIREMENTS: DOMESTIC, FLAG, AND SUPPLEMENTAL OPERATIONS

1. The authority citation for part 121 continues to read as follows:

Authority: 49 U.S.C. 106(f), 106(g), 40103, 40113, 40119, 41706, 42301 preceding note added by Pub. L. 112-95, sec. 412, 126 Stat. 89, 44101, 44701-44702, 44705, 44709-44711, 44713, 44716-44717, 44722, 44729, 44732; 46105; Pub. L. 111-216, 124 Stat. 2348 (49 U.S.C. 44701 note); Pub. L. 112-95 126 Stat 62 (49 U.S.C. 44732 note).

2. In § 121.409, revise paragraph (c)(1) to read as follows:

§ 121.409 Training courses using flight simulation training devices.

* * * * *

(c) * * *

(1) A course of pilot training in an FFS as provided in § 121.424(e); or

* * * * *

3. In § 121.424, revise paragraph (f) to read as follows:

§ 121.424 Pilots: Initial, transition, conversion, and upgrade flight training.

* * * * *

(f) Compliance with paragraphs (a)(2) and (c)(2) of this section is required no later than March 12, 2019.

* * * * *

Issued under authority provided by 49 U.S.C. 106(f), 106(g), 44701(a), and Sec. 206 of Public Law 111-216, 124 Stat. 2348 (49 U.S.C. 44701 note) in Washington, DC, on June 8, 2020.
Brandon Roberts,
Deputy Executive Director, Office of Rulemaking.

[FR Doc. 2020-12710 Filed 6-29-20; 8:45 am]

BILLING CODE 4910-13-P